DEPARTMENT OF COMMERCE

National Oceanic and Atmospheric Administration

RIN 0648-XF930

Mid-Atlantic Fishery Management Council (MAFMC); Public Meeting

AGENCY: National Marine Fisheries Service (NMFS), National Oceanic and Atmospheric Administration (NOAA), Commerce.

ACTION: Notice; public meeting.

SUMMARY: The Northeast Trawl Advisory Panel (NTAP) of the Mid-Atlantic and New England Fishery Management Councils (Councils) will hold a meeting.

DATES: The meeting will be held on Tuesday, January 16, 2018, beginning at 9 a.m. and conclude by 4:40 p.m. For agenda details, see SUPPLEMENTARY INFORMATION.

ADDRESSES: Meeting address: The meeting will at the Hilton Garden Inn Boston Logan, 100 Boardman Street, Boston, MA 02128; telephone: (617) 567-6789.

Council address: Mid-Atlantic Fishery Management Council, 800 N. State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The NTAP is a joint advisory panel of the Mid-Atlantic and New England Fishery Management Councils composed of Council members, fishing industry, academic, and government and non-government fisheries experts. The NTAP was established to bring commercial fishing, fisheries science, and fishery management professionals in the northeastern US together to identify concerns about regional research survey performance and data, to identify methods to address or mitigate these concerns, and to promote mutual understanding and acceptance of the results of this work among their peers and in the broader community.

Topics to be discussed at the meeting by the NTAP include: NTAP membership; status of the Northeast Trawl Advisory Panel (NTAP) and NEFSC commitment to continuing to participate on NTAP; review recent gear efficiency work; discuss capability of PISCES to conduct the Autumn NEFSC Bottom Trawl Survey; discuss net efficiency work developed through NTAP collaborations presented at the TRAC Assessments and the Groundfish Operational Assessments; discuss challenges-faced and lessons-learned in trying to advance the goals of NTAP; identify solutions to improve communications between NTAP and the NEFSC; identify how the NEFSC can improve support to NTAP as a body and be more responsive to short and long-term needs; identify approaches to address or mitigate concerns about regional research survey performance and data.

Special Accommodations

These meetings are physically accessible to people with disabilities. Requests for sign language interpretation or other auxiliary aid should be directed to M. Jan Saunders, (302) 526-5251, at least 5 days prior to the meeting date.

Dated: December 21, 2017.
Tracey L. Thompson,
Acting Deputy Director, Office of Sustainable Fisheries, National Marine Fisheries Service.

[FR Doc. 2017-27968 Filed 12-27-17; 8:45 am]

BILLING CODE 3510-22-P